DEPARTMENT OF THE INTERIOR

Bureau of Reclamation

Proposed New Central Valley Project Water Service Contract, El Dorado County Water Agency, El Dorado County, CA

AGENCY: Bureau of Reclamation, Interior.

ACTION: Reopening of comment period for review of the Draft Environmental Impact Statement/Environmental Impact Report (EIS/EIR).

SUMMARY: The Bureau of Reclamation is reopening the comment period for the Draft EIS/EIR to December 31, 2009. The notice of availability of the Draft EIS/EIR was published in the Federal Register on August 17, 2009 (74 FR 41453). The public review period ended on Friday October 16, 2009.

DATES: Written comments on the Draft EIS/EIR will be accepted on or before December 31, 2009.

ADDRESSES: Send written comments on the Draft EIS/EIR to Ms. Elizabeth Dyer, Bureau of Reclamation, 7794 Folsom Dam Road, Folsom, California 95630. Copies of the Draft EIS/EIR may be requested from Ms. Dyer at the above address, or by calling 916-989-7256. See SUPPLEMENTARY INFORMATION section for locations where copies of the Draft EIS/EIR are available for public inspection. The Draft EIR/EIS is also available from the following Web site: http://www.usbr.gov/mp/nepa/nepa_projdetails.cfm?Project_ID=26.

FOR FURTHER INFORMATION CONTACT: Elizabeth Dyer, Natural Resources Specialist, Reclamation, at 916-989-7256, elizabethdyer@usbr.gov; or Tracey Eden-Bishop, Water Resources Engineer, El Dorado County Water Agency, 530-621-5392, tracey.eden-bishop@edcgov.us.

SUPPLEMENTARY INFORMATION: The focus of the Draft EIS/EIR is to evaluate the potential environmental and socio-economic impacts of the new Central Valley Project (CVP) water service contract authorized under Public Law 101-514. At the project-level, the EIS/EIR addresses the potential hydrologic changes to the American River basin and the CVP/State Water Project including the Sacramento-San Joaquin River Delta. At the programmatic level, the EIS/EIR addresses potential long-term effects and indirect effects of this new water contract within the context of existing policies, infrastructure, public services, and population demographics as supported by the El Dorado County General Plan and EIR. Since no new facilities or infrastructure are part of this new CVP water contracting action, no direct impacts of this new water contract are included in the analysis.

Copies of the Draft EIS/EIR are available for public inspection and review at the following locations:

• Bureau of Reclamation, Denver Office Library, Building 67, Room 167, Denver Federal Center, 6th and Kipling, Denver, CO 80225; telephone: 303-445-2072.

• Bureau of Reclamation, Office of Public Affairs, 2800 Cottage Way, Sacramento, CA 95825-1898; telephone: 916-978-5100.

• Natural Resources Library, U.S. Department of the Interior, 1849 C Street, NW., Main Interior Building, Washington, DC 20240-0001.

• Bureau of Reclamation, Central California Area Office, 7794 Folsom Dam Road, Folsom, CA 95630.

• El Dorado County Water Agency, 3932 Ponderosa Road, Suite 200, Shingle Springs, CA 95682.

• Georgetown Branch Library, 6680 Orleans Street, P.O. Box 55, Georgetown, CA 95634.

Before including your name, address, phone number, e-mail address, or other personal identifying information in your comment, you should be aware that your entire comment—including your personal identifying information—may be made publicly available at any time. While you can ask us in your comment to withhold your personal identifying information from public review, we cannot guarantee that we will be able to do so.

Dated: November 2, 2009.
Pablo R. Arroyave,
Deputy Regional Director, Mid-Pacific Region.

[FR Doc. E9-27285 Filed 11-12-09; 8:45 am]

BILLING CODE 4310-MN-P